FEDERAL ACCOUNTING STANDARDS ADVISORY BOARD

Notice of December 2025 Federal Accounting Standards Advisory Board Meeting

AGENCY: Federal Accounting Standards Advisory Board.

ACTION: Notice.

SUMMARY: Notice is hereby given that the Federal Accounting Standards Advisory Board (FASAB) has changed the date of its December 2025 meeting.

DATES: The December 2025 meeting is no longer scheduled for December 9-10, 2025. The new date is December 16-17, 2025.

ADDRESSES: Agendas, briefing materials, and other meeting information will be available at https://www.fasab.gov/briefing-materials/ approximately one week before the meeting. Any interested person may attend the meeting as an observer. The meeting will be in-person. Board discussion and reviews are open to the public.

FOR FURTHER INFORMATION CONTACT: Ms. Monica R. Valentine, Executive Director, 441 G Street NW, Suite 1155, Washington, DC 20548, or call (202) 512-7350.

SUPPLEMENTARY INFORMATION: The purpose of the meetings is to discuss issues related to the following topics:

Accounting and Reporting of Government Land

Climate-Related Financial Reporting

Commitments

Direct Loans and Loan Guarantees

Federal GAAP Hierarchy

Intangible Assets

Leases

Omnibus Amendments

Public-Private Partnerships

Reexamination of Existing Standards

Omnibus Concepts Amendments

Management's Discussion and Analysis

Revenue

Software Technology

Appointments Panel

Any other topics as needed

Notice is hereby given that a portion of each scheduled meeting may be closed to the public. The Appointments Panel, a chartered subcommittee of FASAB that makes recommendations regarding appointments for non-federal member positions, is expected to meet during each meeting. A portion of each Appointments Panel meeting will be closed to the public. The reason for the closures is that matters covered by 5 U.S.C. 552b(c)(2) and (6) will be discussed. Any such discussions will involve matters that relate solely to internal personnel rules and practices of the sponsor agencies and the disclosure of information of a personal nature where disclosure would constitute a clearly unwarranted invasion of personal privacy. Such discussions will be segregated into separate discussions so that a portion of each meeting will be open to the public.

Pursuant to section 10(d) of the Federal Advisory Committee Act (FACA), 5 U.S.C. 1009(d), portions of advisory committee meetings may be closed to the public where the head of the agency to which the advisory committee reports determines that such portion of such meeting may be closed to the public in accordance with subsection (c) of section 552b of title 5, United States Code. The determination shall be in writing and shall contain the reasons for the determination. A determination has been made in writing by the U.S. Government Accountability Office, the U.S. Department of the Treasury, and the Office of Management and Budget, as required by section 10(d) of FACA, that such portions of the meetings may be closed to the public in accordance with subsection (c) of section 552b of title 5, United States Code.

Unless otherwise noted, FASAB meetings begin at 9 a.m. and conclude before 5 p.m. Meetings are either in-person at the U.S. Government Accountability Office (GAO) building at 441 G St. NW or virtual. Regardless of whether the Board meeting is virtual or in-person, you may observe the meeting virtually.

Authority: 31 U.S.C. 3511(d); Federal Advisory Committee Act, 5 U.S.C. 1001-1014.

Dated: January 16, 2025.
Monica R. Valentine,
Executive Director.

[FR Doc. 2025-01533 Filed 1-22-25; 8:45 am]

BILLING CODE 1610-02-P